COMMISSION ON CIVIL RIGHTS

Agenda and Notice of Public Meeting of the West Virginia Advisory Committee

Notice is hereby given, pursuant to the provisions of the rules and regulations of the U.S. Commission on Civil Rights, that a meeting of the West Virginia Advisory Committee to the Commission will convene at 12:30 p.m. and adjourn at 4:45 p.m. on Thursday, May 8, 2003, at the West Virginia University College of Law, Lugar Courtroom, 100A Law Center, Morgantown, West Virginia,26506-6130. The purpose of this meeting is so that the Committee can release its report, Civil Rights Issues in West Virginia. To obtain update information, the Committee will also hold a briefing session with government officials, community leaders, and the public.

Persons desiring additional information, or planning a presentation to the Committee, should contact Ki-Taek Chun, Director of the Eastern Regional Office, 202-376-7533 (TDD 202-376-8116) or Ranjit Majumder, chair, (304) 367-4244. Hearing-impaired persons who will attend the meeting and require the services of a sign language interpreter should contact the Regional Office at least ten (10) working days before the scheduled date of the meeting.

The meeting will be conducted pursuant to the provisions of the rules and regulations of the Commission.

Dated at Washington, DC, April 28, 2003.
Ivy L. Davis,
Chief, Regional Programs Coordination Unit.

[FR Doc. 03-11689 Filed 5-9-03; 8:45 am]

BILLING CODE 6335-01-P